DEPARTMENT OF THE INTERIOR

Bureau of Land Management

[15X 1109AF LLUT980300-L11500000.PH0000-24-1A]

Utah Recreation Resource Advisory Council Meeting/Conference Call

AGENCY: Bureau of Land Management, Interior.

ACTION: Notice of meeting/conference call.

SUMMARY: In accordance with the Federal Land Policy and Management Act, the Federal Advisory Committee Act, and the Federal Lands Recreation Enhancement Act, the Bureau of Land Management's (BLM) Utah Recreation Resource Advisory Council (RecRAC) will host a meeting/conference call.

DATES: The BLM-Utah RecRAC will host a meeting/conference call on Tuesday, Nov. 25, 2014, from 9:00 a.m.-11:00 a.m., Mountain Standard Time.

ADDRESSES: Those attending in person must meet at the BLM-Utah State Office, Monument A Conference Room, 440 West 200 South, Fifth Floor, Salt Lake City, Utah 84101.

FOR FURTHER INFORMATION CONTACT: If you wish to listen to the teleconference, orally present material during the teleconference, or submit written material for the RecRAC to consider during the teleconference, please notify Sherry Foot, Special Programs Coordinator, Bureau of Land Management, Utah State Office, 440 West 200 South, Suite 500, Salt Lake City, Utah 84101; phone (801) 539-4195; or, sfoot@blm.gov no later than Friday, Nov. 21.

SUPPLEMENTARY INFORMATION: Agenda topics will consist of the Amended Business Plan for the San Juan River (proposes moving the San Juan River non-commercial boating permit lottery and reservation system to www.recreation.gov to improve customer service and permitting efficiency) and the Draft Business Plan for Recreation Use Permits in the BLM-Richfield Field Office (proposes to modify camping fees at Starr Spring, McMillan Spring, and Lonesome Beaver Campgrounds). A half-hour public comment period will take place from 10:30-11:00 a.m. The meeting is open to the public; however, transportation, lodging, and meals are the responsibility of the participating individuals.

Persons who use a telecommunications device for the deaf (TDD) may call the Federal Information Relay Service (FIRS) at 1-800-877-8339 to leave a message or question for the above individual. The FIRS is available 24 hours a day, seven days a week. Replies are provided during normal business hours.

Authority: 43 CFR 1784.4-1.

Jenna Whitlock,
Associate State Director.

[FR Doc. 2014-25916 Filed 10-30-14; 8:45 am]

BILLING CODE 4310-DQ-P